DEPARTMENT OF TRANSPORTATION

Federal Aviation Administration

14 CFR Part 39

[Docket No. FAA-2023-1409; Project Identifier MCAI-2022-01645-T; Amendment 39-22610; AD 2023-23-08]

RIN 2120-AA64

Airworthiness Directives; Airbus SAS Airplanes

AGENCY: Federal Aviation Administration (FAA), DOT.

ACTION: Final rule.

SUMMARY: The FAA is superseding Airworthiness Directive (AD) 2019-07-05, which applied to all Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2019-07-05 required repetitive inspections for cracking of the 10VU rack fitting lugs and repair of any cracking. This AD continues to require the requirements of AD 2019-07-05, with reduced compliance times and removes airplanes having a certain modification from the applicability. This AD was prompted by a determination that certain repetitive inspection intervals need to be revised. The FAA is issuing this AD to address the unsafe condition on these products.

DATES: This AD is effective January 5, 2024.

The Director of the Federal Register approved the incorporation by reference of certain publications listed in this AD as of January 5, 2024.

ADDRESSES:

AD Docket: You may examine the AD docket at regulations.gov under Docket No. FAA-2023-1409; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For service information identified in this final rule, contact Airbus SAS, Airworthiness Office—EIAS, Rond-Point Emile Dewoitine No: 2, 31700 Blagnac Cedex, France; telephone +33 5 61 93 36 96; fax +33 5 61 93 44 51; email account.airworth-eas@airbus.com; website airbus.com.

• You may view this service information at the FAA, Airworthiness Products Section, Operational Safety Branch, 2200 South 216th St., Des Moines, WA. For information on the availability of this material at the FAA, call 206-231-3195. It is also available at regulations.gov under Docket No. FAA-2023-1409.

FOR FURTHER INFORMATION CONTACT: Timothy Dowling, Aviation Safety Engineer, FAA, 1600 Stewart Avenue, Suite 410, Westbury, NY 11590; telephone 206-231-3667; email Timothy.P.Dowling@faa.gov.

SUPPLEMENTARY INFORMATION:

Background

The FAA issued a notice of proposed rulemaking (NPRM) to amend 14 CFR part 39 to supersede AD 2019-07-05, Amendment 39-19616 (84 FR 16386, April 19, 2019; corrected May 10, 2019 (84 FR 20542)) (AD 2019-07-05). AD 2019-07-05 applied to all Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2019-07-05 required repetitive inspections for cracking of the 10VU rack fitting lugs, and repair of any cracking. The FAA issued AD 2019-07-05 to address reading difficulties of flight-critical information displayed to the flightcrew during a critical phase of flight, such as an approach or takeoff, which could result in loss of airplane control at an altitude insufficient for recovery.

The NPRM published in the Federal Register on July 13, 2023 (88 FR 44740). The NPRM was prompted by AD 2022-0266, dated December 22, 2022, issued by the European Union Aviation Safety Agency (EASA), which is the Technical Agent for the Member States of the European Union (EASA AD 2022-0266) (also referred to as the MCAI). The MCAI states that during an unscheduled maintenance operation on an A330 airplane, the 10VU rack was removed for access, and cracks were discovered on 10VU rack side fittings on lugs 1, 3, and 4. As a similar design is installed on A320 family airplanes, a sampling review was done to determine the possible fleet impact. The result showed that several airplanes had cracked or broken 10VU rack side fittings. This condition, if not detected and corrected, could lead to a high vibration level on the primary flight and navigation displays during critical flight phases (take-off and landing), possibly creating reading difficulties for the crew.

In the NPRM, the FAA proposed to continue to require repetitive inspections for cracking of the 10VU rack fitting lugs, and repair of any cracking. In the NPRM, the FAA also proposed to require reduced compliance times and to remove airplanes having a certain modification from the applicability. The FAA is issuing this AD to address reading difficulties of flight-critical information displayed to the flightcrew during a critical phase of flight, such as an approach or takeoff, which could result in loss of airplane control at an altitude insufficient for recovery.

You may examine the MCAI in the AD docket at regulations.gov under Docket No. FAA-2023-1409.

Discussion of Final Airworthiness Directive

Comments

The FAA received comments from Air Line Pilots Association, International (ALPA), who supported the NPRM without change.

The FAA received additional comments from United Airlines (United). The following presents United's comments received on the NPRM and the FAA's response to each comment.

Request To Revise Compliance Time

United requested revising the proposed AD to add a grace period for the reduced compliance times of the repetitive inspections. United stated that it accomplished the initial inspections on most of the fleet and already scheduled the repetitive inspections within the 20,000-flight-cycle or 40,000-flight-hour interval specified in AD 2019-07-05. United pointed out that the repetitive interval is reduced to 10,000 flight cycles or 20,000 flight hours in the proposed AD. United suggested a grace period of 20,000 flight cycles or 40,000 flight hours for the first repeat inspection and then 10,000 flight cycles or 20,000 flight hours for the following repeat inspections.

The FAA does not agree with the commenter's request to provide a grace period. In developing an appropriate compliance time for this action, the FAA considered the recommendations of the manufacturer and EASA, the urgency associated with the subject unsafe condition, the availability of required parts, and the practical aspect of accomplishing the required repair within a period of time that corresponds to the normal scheduled maintenance for most affected operators. The compliance times are not expected to ground any airplanes upon the effective date of this AD. United has not provided data for the FAA to consider. However, under the provisions of paragraph (l)(1) of this AD, the FAA will consider requests for approval of an extension of the compliance time if sufficient data are submitted to substantiate that the new compliance time would provide an acceptable level of safety. The FAA has not changed this AD in this regard.

Request To Allow Flight With Known Cracking

United requested that the FAA revise the proposed AD to align more closely with EASA AD 2022-0266; Airbus Service Bulletin A320-92-1087, Revision 04, dated May 16, 2022; and Airbus Service Bulletin A320-92-1119, Revision 02, dated May 16, 2022. United stated that these documents allow further flights up to 5,000 flight cycles, 10,000 flight hours, or 24 months, whichever occurs first, after any finding of cracking on a single 10VU lug. The proposed AD would require repair before further flight for any number of lugs found to have cracking.

The FAA generally does not allow flights with known cracking. Therefore, the FAA requires repairing known cracks before further flight (although the FAA might make exceptions in certain cases of unusual need, as discussed below). This is based on the fact that such damaged airplanes do not conform to the FAA-certificated type design and, therefore, are not airworthy until a properly approved repair is made. While the FAA recognizes that repair deferrals might be necessary at times, the FAA intends to minimize adverse human factors relating to the lack of reliability of long-term repetitive inspections, which might reduce the safety of the type-certificated design if such repair deferrals are practiced routinely.

As noted above, the FAA might allow an exception to these requirements in certain cases, if there is an unusual need for a temporary deferral and if the temporary fix will maintain an adequate level of safety. Unusual needs include such circumstances as legitimate difficulty in acquiring parts to accomplish repairs. Under such conditions, the FAA might allow a temporary deferral of the repair, subject to a stringent inspection program acceptable to the FAA. The FAA acknowledges that the manufacturer has specified inspection intervals that are intended to allow continued operation with known cracks, and to prevent the need for extensive repairs. However, since the FAA is not aware of any unusual need for repair deferral in regard to this AD, the FAA has not evaluated these inspection intervals.

The FAA considers the compliance times in this AD to be adequate to allow operators to acquire parts to have on hand in the event that a crack is detected during inspection. Therefore, the FAA has determined that, due to the safety implications and consequences associated with such cracking, any 10VU lug that is found to be cracked must be repaired or modified before further flight. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed Airbus Service Bulletins A320-92-1087, Revision 04, dated May 16, 2022; and A320-92-1119, Revision 02, dated May 16, 2022. This service information specifies procedures for repetitive inspections for cracking of the 10VU rack fitting lugs, and repair of any cracking. These documents are distinct since they apply to different airplane configurations. This service information is reasonably available because the interested parties have access to it through their normal course of business or by the means identified in the ADDRESSES section.

Costs of Compliance

The FAA estimates that this AD affects 461 airplanes of U.S. registry.

The FAA estimates the following costs to comply with this AD:

Estimated Costs for Required Actions
Action | Labor cost | Parts cost | Cost per product | Cost on U.S. operators
Inspections (retained actions from AD 2019-07-05) | 2 work-hours × $85 per hour = $170 | $0 | $170 | $78,370

The FAA estimates that it would take about 1 work-hour per product to comply with the reporting requirement in this AD. The average labor rate is $85 per hour. Based on these figures, the FAA estimates the cost of reporting the inspection results on U.S. operators to be $85 per product.

The FAA estimates the following costs to do any necessary repairs that would be required based on the results of the inspection. The FAA has no way of determining the number of aircraft that might need these repairs:

Estimated Costs of On-Condition Actions
Labor cost | Parts cost | Cost per product
83 work-hours × $85 per hour = $7,055 | $9,140 | $16,195

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-07-05, Amendment 39-19616 (84 FR 16386, April 19, 2019; corrected May 10, 2019 (84 FR 20542)); and

b. Adding the following new AD:

2023-23-08 Airbus SAS: Amendment 39-22610; Docket No. FAA-2023-1409; Project Identifier MCAI-2022-01645-T.

(a) Effective Date

This airworthiness directive (AD) is effective January 5, 2024.

(b) Affected ADs

This AD replaces AD 2019-07-05, Amendment 39-19616 (84 FR 16386, April 19, 2019; corrected May 10, 2019 (84 FR 20542)) (AD 2019-07-05).

(c) Applicability

This AD applies to the Airbus SAS airplanes identified in paragraphs (c)(1) through (4) of this AD, certificated in any category, all manufacturer serial numbers, except those on which Airbus modification 157335 has been embodied in production.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 92, Electric and electronic common installation.

(e) Unsafe Condition

This AD was prompted by a report of cracks found during maintenance inspections on certain 10VU rack fitting lugs, and a determination that certain compliance times need to be revised. The FAA is issuing this AD to address reading difficulties of flight-critical information displayed to the flightcrew during a critical phase of flight, such as an approach or takeoff, which could result in loss of airplane control at an altitude insufficient for recovery.

(f) Compliance

Comply with this AD within the compliance times specified, unless already done.

(g) Retained Definitions, With No Changes

This paragraph restates the definitions of paragraph (g) of AD 2019-07-05, with no changes. For the purpose of this AD, Group 1 airplanes are in a pre-Airbus Modification 35869 configuration, and Group 2 airplanes are in a post-Airbus Modification 35869 configuration.

(h) Retained Repetitive Inspections, With Reduced Inspection Intervals and Revised Service Information

This paragraph restates the requirements of paragraph (h) of AD 2019-07-05, with reduced inspection intervals and revised service information.

(1) For Group 1 airplanes: At the later of the times specified in Figure 1 to paragraph (h)(1) of this AD, do a detailed inspection for cracking of the 10VU rack fitting lugs, in accordance with the Accomplishment Instructions of Airbus Service Bulletin A320-92-1087, Revision 04, dated May 16, 2022. Repeat the inspection thereafter at intervals not to exceed 10,000 flight cycles or 20,000 flight hours, whichever occurs first.

Figure 1 to Paragraph (h)(1)—Initial Inspection Compliance Time for Group 1 Airplanes

(2) For Group 2 airplanes: At the later of the times specified in Figure 2 to paragraph (h)(2) of this AD, do a detailed inspection for cracking of the 10VU rack fitting lugs, in accordance with the Accomplishment Instructions of Airbus Service Bulletin A320-92-1119, Revision 02, dated May 16, 2022. Repeat the inspection thereafter at intervals not to exceed 10,000 flight cycles or 20,000 flight hours, whichever occurs first.

Figure 2 to Paragraph (h)(2)—Initial Inspection Compliance Time for Group 2 Airplanes

(i) Retained Repair, With Revised Service Information

This paragraph restates the requirements of paragraph (i) of AD 2019-07-05, with revised service information. If any crack is found during any inspection required by paragraph (h)(1) or (2) of this AD: Before further flight, do a repair in accordance with the Accomplishment Instructions of Airbus Service Bulletin A320-92-1087, Revision 04, dated May 16, 2022 (for Group 1 airplanes); or Airbus Service Bulletin A320-92-1119, Revision 02, dated May 16, 2022 (for Group 2 airplanes); as applicable. Repair of a 10VU rack fitting lug does not terminate the repetitive inspections required by paragraphs (h)(1) and (2) of this AD.

(j) Reporting Requirement

At the applicable time specified in paragraph (j)(1) or (2) of this AD: Submit a report of findings (positive and negative) of each inspection required by paragraph (h) of this AD to Airbus Service Bulletin Reporting Online Application on Airbus World (airbus.com) or in accordance with B. “Reporting Sheet” of the Appendix of Airbus Service Bulletin A320-92-1087, Revision 04, dated May 16, 2022 (for Group 1 airplanes); or Airbus Service Bulletin A320-92-1119, Revision 02, dated May 16, 2022 (for Group 2 airplanes); as applicable.

(1) If the inspection was done on or after the effective date of this AD: Submit the report within 90 days after the inspection.

(2) If the inspection was done before the effective date of this AD: Submit the report within 90 days after the effective date of this AD.

(k) Credit for Previous Actions

(1) This paragraph provides credit for actions required by paragraphs (h)(1) and (i) of this AD, if those actions were performed before May 24, 2019 (the effective date of AD 2019-07-05), using Airbus Service Bulletin A320-92-1087, dated March 28, 2011, which is not incorporated by reference in this AD; or Airbus Service Bulletin A320-92-1087, Revision 01, dated May 17, 2011, which is not incorporated by reference in this AD; or Airbus Service Bulletin A320-92-1087, Revision 02, dated November 25, 2014, which was incorporated by reference in AD 2016-19-14.

(2) This paragraph provides credit for actions required by paragraphs (h)(1) and (i) of this AD, if those actions were performed before the effective date of this AD, using Airbus Service Bulletin A320-92-1087, Revision 03, dated July 31, 2017, which was incorporated by reference in AD 2019-07-05.

(3) This paragraph provides credit for actions required by paragraphs (h)(2) and (i) of this AD, if those actions were performed before the effective date of this AD, using Airbus Service Bulletin A320-92-1119, dated July 28, 2017, which was incorporated by reference in AD 2019-07-05; or Airbus Service Bulletin A320-92-1119, Revision 01, dated August 5, 2019, which is not incorporated by reference in this AD.

(4) This paragraph provides credit for the reporting required by paragraph (j)(2) of this AD, if that action was performed before the effective date of this AD in accordance with the instructions of Airbus Service Bulletin A320A-92-1087, Revision 03, dated July 31, 2017 (for Group 1 airplanes); or Airbus Service Bulletin A320-92-1119, dated July 28, 2017 (for Group 2 airplanes); as applicable; except where Figure A-FAAAA, Sheet 02, of Appendix 01, “Inspection Report,” of Airbus Service Bulletin A320-92-1087, Revision 03, dated July 31, 2017; and Figure A-FAAAA, Sheet 02, of Appendix 01, “Inspection Report,” of Airbus Service Bulletin A320-92-1119, dated July 28, 2017; specifies sending removed lugs to Airbus for investigation, that action is not required by this AD. Airbus Service Bulletin A320A-92-1087, Revision 03, dated July 31, 2017; and Airbus Service Bulletin A320-92-1119, dated July 28, 2017; were incorporated by reference in AD 2019-07-05.

(l) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (m)(2) of this AD or email to: 9-AVS-AIR-730-AMOC@faa.gov. If mailing information, also submit information by email.

(i) Before using any approved AMOC, notify your appropriate principal inspector, or lacking a principal inspector, the manager of the responsible Flight Standards Office.

(ii) Global AMOC AIR-676-19-305, dated July 29, 2019, approved as an AMOC for AD 2019-07-05, is approved as an AMOC for the corresponding provisions of this AD.

(2) Contacting the Manufacturer: For any requirement in this AD to obtain instructions from a manufacturer, the instructions must be accomplished using a method approved by the Manager, International Validation Branch, FAA; or the European Union Aviation Safety Agency (EASA); or Airbus SAS's EASA Design Organization Approval (DOA). If approved by the DOA, the approval must include the DOA-authorized signature.

(3) Required for Compliance (RC): Except as required by paragraph (l)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Additional Information

(1) Refer to European Union Aviation Safety Agency (EASA) AD 2022-0266, dated December 22, 2022, for related information. This EASA AD may be found in the AD docket at regulations.gov under Docket No. FAA-2023-1409.

(2) For more information about this AD, contact Timothy Dowling, Aviation Safety Engineer, FAA, 1600 Stewart Avenue, Suite 410, Westbury, NY 11590; phone 206-231-3667; email Timothy.P.Dowling@faa.gov.

(3) Service information identified in this AD that is not incorporated by reference is available at the addresses specified in paragraphs (n)(3) and (4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-92-1087, Revision 04, dated May 16, 2022.

(ii) Airbus Service Bulletin A320-92-1119, Revision 02, dated May 16, 2022.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; website airbus.com.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on November 16, 2023.
Ross Landes,
Deputy Director for Regulatory Operations, Compliance & Airworthiness Division, Aircraft Certification Service.

[FR Doc. 2023-26404 Filed 11-30-23; 8:45 am]

BILLING CODE 4910-13-P